DEPARTMENT OF TRANSPORTATION

Federal Aviation Administration

Notice of Intent to Rule on Application 03-10-C-00-MHT Impose and Use the Revenue From a Passenger Facility Charge (PFC) at Manchester Airport, Manchester, NH

AGENCY: Federal Aviation Administration (FAA), DOT.

ACTION: Notice of intent to rule on application.

SUMMARY: The FAA proposes to rule and invites public comment on the application to impose and use the revenue from a PFC at Manchester Airport under the provisions of the 49 U.S.C. 40117 and Part 158 of the Federal Aviation Regulations (14 CFR part 158).

DATES: Comments must be received on or before February 5, 2003.

ADDRESSES: Comments on this application may be mailed or delivered in triplicate to the FAA at the following address: Federal Aviation Administration, Airports Division, ANE-600, attn: Priscilla Scott, 12 New England Executive Park, Burlington, Massachusetts, 01803.

In addition, one copy of any comments submitted to the FAA must be mailed or delivered to Kevin A. Dillon, Airport Director of the City of Manchester, Department of Aviation at the following address: One Airport Road, Suite 300, Manchester, New Hampshire, 03103-3395.

Air carriers and foreign air carriers may submit copies of written comments previously provided to the City of Manchester, Department of Aviation under section 158.23 of part 158.

FOR FURTHER INFORMATION CONTACT: Priscilla Scott, PFC Program Manager, 12 New England Executive Park, Burlington, Massachusetts, 01803, (781) 238-7614. The application may be reviewed in person at 16 New England Executive Park, Burlington, Massachusetts.

SUPPLEMENTARY INFORMATION: The FAA proposes to rule and invites public comment on the application to impose and use the revenue from a PFC at Manchester Airport under the provisions of the 49 U.S.C. 40117 and Part 158 of the Federal Aviation Regulations (14 CFR part 158).

On December 20, 2002, the FAA determined that the application to impose and use the revenue from a PFC submitted by City of Manchester, Department of Aviation was substantially complete within the requirements of section 158.25 of part 158. The FAA will approve or disapprove the application, in whole or in part, no later than April 1, 2003.

The following is a brief overview of the application.

Proposed charge effective date: December 1, 2013.

Proposed charge expiration date: January 1, 2020.

Level of the proposed PFC: $3.00.

Total estimated PFC revenue: $50,662,827.

Brief description of proposed project(s): Runway 17-35 Extension and Reconstruction. Residential and School Sound Insulation Program.

Phase II Terminal Expansion: Construction and Construction Management.

Phase II Terminal Expansion: Baggage Handling Devices, Site work, Ramp Upgrades, and Jet Bridges.

Phase II Terminal Expansion: Design Fees.

PFC Application Development.

Class or classes of air carriers that the public agency has requested not be required to collect PFCs: On demand air taxi/commercial operators (ATCO).

Any person may inspect the application in person at the FAA office listed above under FOR FURTHER INFORMATION CONTACT and at the FAA regional Airports office located at: 16 New England Executive Park, Burlington, Massachusetts.

In addition, any person may, upon request, inspect the application, notice and other documents germane to the application in person at the City of Manchester, Department of Aviation.

Dated: Issued in Burlington, Massachusetts on December 20, 2002.
Vincent A. Scarano,
Manager, Airports Division, New England Region.

[FR Doc. 03-208 Filed 1-3-03; 8:45 am]

BILLING CODE 4910-13-M